DEPARTMENT OF TRANSPORTATION

Federal Highway Administration

Environmental Impact Statement: Cache County, UT

AGENCY: Federal Highway Administration (FHWA), DOT.

ACTION: Notice of intent.

SUMMARY: The FHWA is issuing this notice of intent to advise the public that an Environmental Impact Statement will be prepared for a proposed highway project in Cache County, Utah.

FOR FURTHER INFORMATION CONTACT: Jeff Berna, FHWA, Utah Division, 2520 West 4700 South, Suite 9A, Salt Lake City, UT 84118, Telephone: (801) 963-0182 or Kelly Barrett, Project Manager, Utah Department of Transportation, Region One Office, 169 Wall Street, Ogden, UT 84112, Telephone: (801) 620-1684.

SUPPLEMENTARY INFORMATION: FHWA, in cooperation with the Utah Department of Transportation (UDOT) will prepare an Environmental Impact Statement (EIS) to address the proposed construction of an approximately 3-mile segment of new transportation corridor from 1400 North in North Logan City to 3700 North in Hyde Park City, between U.S. Highway 91 and 400 East in Cache County, Utah. The Cache Metropolitan Planning Organization in its June 2000 long range Transportation Master Plan identified this corridor as an important future transportation system for the Cache Valley. The EIS will evaluate no-build and build alternatives to address the need for a proposed action to provide for existing and projected traffic demand along this corridor. Reasonable alternatives within the study area will be fully considered in compliance with National Environmental Policy Act regulations.

Letters describing the proposed action and soliciting comments will be sent to appropriate Federal, State and local agencies, and to private organizations and citizens who express interest in this project. Public scoping meetings will be held in spring 2004 in the project area. Additionally, a public hearing will be held in accordance with FHWA regulations. Public notice will be given of the time and place of the scoping meetings and hearing. The scoping process will be open to determine all of the issues. The draft environmental document will be available for public and agency review and comment prior to the public hearing.

To ensure that the full range of issues related to this proposed action are addressed and all significant issues identified, comments and suggestions are invited from all interested parties. Comments or questions concerning this proposed action and the EIS should be directed to FHWA at the address provided above.

(Catalog of Federal Domestic Assistance Program Number 20.205, Highway Planning and Construction. The regulations implementing Executive Order 12372 regarding intergovernmental consultation on Federal programs and activities apply to this program.)

Issued on: January 22, 2004.
Jeffrey Berna,
Environmental Specialist, Salt Lake City, Utah.

[FR Doc. 04-4260 Filed 2-25-04; 8:45 am]

BILLING CODE 4910-22-M